NUCLEAR REGULATORY COMMISSION

10 CFR Parts 2, 30, 40, 50, 52, 60, 63, 70, 71, 72, 73, 76, and 150

RIN 3150-AH57

[NRC-2005-0001]

Protection of Safeguards Information; Correction

AGENCY: Nuclear Regulatory Commission.

ACTION: Final rule; correction.

SUMMARY: This document corrects a rule that appeared in the Federal Register on October 24, 2008 (73 FR 63545), that amends the regulations for the protection of Safeguards Information (SGI) to protect SGI from inadvertent release and unauthorized disclosure which might compromise the security of nuclear facilities and materials. This action is necessary to correct an erroneous authority citation.

DATES: Effective February 23, 2009.

FOR FURTHER INFORMATION CONTACT: Michael T. Lesar, Chief, Rulemaking, Directives, and Editing Branch, Division of Administrative Services, Office of Administration, U.S. Nuclear Regulatory Commission, Washington, DC 20555-0001; telephone (301) 492-3663, e-mail: Michael.Lesar@nrc.gov.

SUPPLEMENTARY INFORMATION: In FR doc. E8-24904, published on October 24, 2008, on page 63571, in the second column, under instruction 20, the authority citation for 10 CFR part 52 is corrected to read as follows:

Authority: Secs. 103, 104, 161, 182, 183, 186, 189, 68 Stat. 936, 948, 953, 954, 955, 956, as amended, sec. 234, 83 Stat. 444, as amended (42 U.S.C. 2133, 2201, 2232, 2233, 2236, 2239, 2282); secs. 201, 202, 206, 88 Stat. 1242, 1244, 1246, as amended (42 U.S.C. 5841, 5842, 5846); sec. 1704, 112 Stat. 2750 (44 U.S.C. 3504 note); Energy Policy Act of 2005, Pub. L. No. 109-58, 119 Stat. 594 (2005), secs. 147 and 149 of the Atomic Energy Act.

Dated in Rockville, Maryland, this 6th day of February 2009.
For the Nuclear Regulatory Commission.
Michael T. Lesar,
Chief, Rulemaking, Directives, and Editing Branch, Division of Administrative Services, Office of Administration.

[FR Doc. E9-3074 Filed 2-11-09; 8:45 am]

BILLING CODE 7590-01-P